ENVIRONMENTAL PROTECTION AGENCY

40 CFR Part 1051

[EPA-HQ-OAR-2006-0858; FRL-8305-8]

RIN 2060-A035

Extension of Temporary Exhaust Emission Test Procedure Option for All Terrain Vehicles

AGENCY: Environmental Protection Agency (EPA).

ACTION: Direct final rule.

SUMMARY: In a rule published November 8, 2002, EPA promulgated new emission standards for recreational vehicles beginning in model year 2006. This included a newly regulated class of nonroad vehicles/engines commonly referred to as all-terrain vehicles. In that rulemaking, a temporary provision was included allowing manufacturers to test all-terrain vehicles over a steady-state, engine-based, duty cycle for exhaust emissions prior to the 2009 model year in lieu of the transient, chassis-based, Federal Test Procedure which was effective for 2006 and later model years. In this rulemaking we are taking direct final action to extend the availability of this temporary provision for in some cases up to an additional six model years. More specifically, manufacturers would have to certify exhaust emission engine families representing not less than 50 percent of their US-directed production on the Federal Test Procedure in model year 2014 and 100 percent in 2015. Manufacturers with only one all terrain vehicle exhaust emission engine family would not be required to use the Federal Test Procedure until the 2015 model year. For those manufacturers who have not yet done so, this will allow additional time to certify to the previously promulgated Federal Test Procedure-based emission standards using either contract facilities or by obtaining in-house capability.

DATES: This direct final rule is effective on June 25, 2007, without further notice, unless we receive adverse comments by May 29, 2007 or a request for a public hearing by May 11, 2007. If EPA receives such comments or such a request, it will publish a timely withdrawal of the direct final rule in the Federal Register and inform the public that the rule will not take effect.

ADDRESSES: Submit your comments, identified by Docket ID No. EPA-HQ-OAR-2005-0858, by one of the following methods:

• www.regulations.gov: Follow the on-line instructions for submitting comments.

• E-mail: a-and-r-docket@epa.gov

• Fax: (202) 566-1741

• Mail: Environmental Protection Agency, Mail Code: 6102T, 1200 Pennsylvania Ave., NW., Washington, DC, 20460. Please include two copies.

• Hand Delivery: EPA Docket Center (Air Docket), U.S. Environmental Protection Agency, EPA West Building, 1301 Constitution Avenue, NW., Room: 3334 Mail Code: 6102T, Washington, DC. Such deliveries are only accepted during the Docket's normal hours of operation, and special arrangements should be made for deliveries of boxed information.

Instructions: Direct your comments to Docket ID No. EPA-HQ-OAR-2006-0858. EPA's policy is that all comments received will be included in the public docket without change and may be made available online at www.regulations.gov. including any personal information provided, unless the comment includes information claimed to be Confidential Business Information (CBI) or other infonnation whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, EPA/DC, EPA West, Room 3334, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Michael Samulski, Assessment and Standards Division, Office of Transportation and Air Quality, 2000 Traverwood Drive, Ann Arbor, MI, 48105; telephone number: (734) 214-4532; fax number: (734) 214-4050; email address: samulski.michael@epa.gov.

SUPPLEMENTARY INFORMATION:

I. Why is EPA Using a Direct Final Rule?

EPA is publishing this rule without a prior proposal because we view this action as noncontroversial and anticipate no adverse comment. However, in the “Proposed Rules” section of today's Federal Register publication, we are publishing a separate document that will serve as the proposal to adopt the provisions in this Direct Final Rule if adverse comments are received on this direct final rule. We will not institute a second comment period on this action. Any parties interested in commenting must do so at this time. For further information about commenting on this rule, see the ADDRESSES section of this document.

If EPA receives adverse comment or a request for public hearing, we will publish a timely withdrawal in the Federal Register informing the public that this direct final rule will not take effect. We would address all public comments in any subsequent final rule based on the proposed rule.

II. Does This Action Apply to Me?

This action will affect companies that manufacture and certify all-terrain vehicles for sale in the United States.

Category | NAICS code ᵃ | Examples of potentially affected entities
Industry | 336999 | Snowmobiles and all-terrain vehicle manufacturers.
Industry | 421110 | Independent commercial importers of vehicles and parts.
ᵃ North American Industry Classification System (NAICS).

To determine whether particular activities may be affected by this action, you should carefully examine the regulations. You may direct questions regarding the applicability of this action as noted in FOR FURTHER INFORMATION CONTACT.

III. What Should I Consider as I Prepare My Comments for EPA?

A. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

B. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

IV. Summary of Rule

The current exhaust emission standards for all-terrain vehicles (ATVs) are based on the use of the chassis-based transient emission test cycle used for Class I highway motorcycles. These emission standards first took effect in the 2006 model year. As an option, section 1051.145(b) of the regulations includes a temporary provision which allows ATV manufacturers to certify their products for exhaust emissions over a steady-state, engine-based, duty cycle. This option is now in place for model years 2006-2008, inclusive. This option has existed in California since 1997 and it is permanently available under the California regulations. Until recently, for their California certification most manufacturers have elected to use the optional engine cycle. EPA included the optional test cycle in its rule because it enabled the implementation of emission controls for ATVs several years earlier than otherwise would have been possible if ATV manufacturers had been required to certify their products on the chassis-based FTP. For many manufacturers, additional lead time would have been required to procure and install the necessary chassis dynamometers and related emissions measurement equipment, train technicians, and then to certify their products on this chassis cycle. In this rulemaking, we are extending the availability of this option for reasons described below.

The steady-state duty cycle, often referred to as J1088, has six modes and was originally developed to represent the operation of small utility engines. It only includes engine operation at idle and one other speed. During the course of the original rulemaking, EPA expressed its concern that the J1088 test cycle misses substantial portions of typical ATV operation. EPA stated that it preferred using the transient motorcycle FTP as the basis for the test procedures and emission standards in a long-term ATV program. However, many manufacturers expressed support for the long-term use of the optional test procedure to certify their engines, as was allowed in California, primarily due to costs associated with installing chassis dynamometer facilities capable of meeting FTP requirements.

EPA recognized the manufacturers' interests regarding facility costs associated with FTP testing for ATVs. During the rulemaking, EPA discussed the possibility of developing a new test cycle specifically for ATVs. EPA discussed its intent to work with all interested parties to determine whether a new test cycle and accompanying standards would be appropriate. By finalizing the temporary J1088 option, EPA provided time to develop, and if appropriate, adopt and implement an alternative to the FTP that meets the needs of the Agency, manufacturers, and other parties. EPA indicated that it would consider extending the availability of the J1088 option beyond the 2008 model year, if necessary, to give more time to adopt changes to the ATV test cycle.

Soon after the final rule was published for the ATV emission standards, EPA entered a memorandum of understanding (MOU) with the California Air Resources Board, the Motorcycle Industry Council, and the Specialty Vehicle Institute of America, regarding ATV test cycle development and implementation with the goal of developing and implementing a test cycle for ATVs that would be agreed to by all participants. In response to the MOU, the manufacturers collected data on ATV operating characteristics in the field (speed, load, etc.) in an attempt to better inform the signatories to the MOU on the operating characteristics of these vehicles. This data was provided to EPA in November 2005 together with a manufacturer concept on a possible steady state test cycle derived from this field data and some data comparing emissions on this cycle to those on the FTP. This information is available in the public docket for this rulemaking.

EPA very carefully considered the data and analyses provided by the manufacturers with the core question being whether ATV operation is fundamentally steady-state or transient in nature. Beyond this, EPA fully considered the steady-state test cycle put forth by the manufacturers. However, EPA is concerned that much of the possible operating range of ATV engines was not covered in the test cycle proposed by the manufacturers and that transient operation is not represented at all. In an effort to at least partially resolve this matter, EPA put forth the idea of adding Not-To-Exceed requirements to the industry cycle such as required in other EPA rules where steady-state testing is prescribed. However, EPA and the industry could not agree on a concept or appropriate multipliers.

Thus, EPA believes it is time to close deliberations on a new emissions test cycle, leaving in place the current provision that the FTP and the emission standards promulgated in 2002 would take effect if an alternative test cycle was not implemented. While many manufacturers have already certified on the FTP, the manufacturers involved in the MOU postponed investing in the chassis dynamometer testing facilities needed for the FTP in the good faith hope that an engine dynamometer based alternative cycle could be developed. Since this will not be the case, it is appropriate to determine how much lead time is needed to complete full transition to the FTP in an orderly manner. Time is not now available to procure and implement the chassis dynamometer and meet the emission standards called for by EPA's 2009 requirement.

EPA believes that a period of five additional model years is appropriate before FTP-based testing should be mandated and that one additional model year is needed to accommodate a phase-in and small business interests. As mentioned in the summary above, exhaust emission engine families representing at least 50 percent of US-directed production would have to be certified on the FTP in the 2014 model year with the remainder in 2015 model year. Manufacturers with only one exhaust emission engine family in the 2014 model year would not be required to comply until the 2015 model year.

To allow for the use of current emission sampling practices used with the J1088 cycle, this action also extends the availability of raw gas sampling. It will be available for use with the J1088 cycle as long as the J1088 cycle can be used for ATV exhaust emission certification.

In determining how much lead time is needed EPA considered the following factors. Time is needed to build chassis test facilities, procure and install chassis dynamometers and related emission test equipment, train personnel on use of this equipment, conduct the development work needed to meet the emission standards, and ultimately to certify. Generally speaking, the first two items would take approximately 36 months to complete, the next two would take about 24 months, and the last step, certification, about 12 months. Thus, products would be ready for the 2014 model year. The original rule provided six years of lead time for the FTP requirement. It was promulgated in late 2002 and absent a change in the test cycle would be required for the 2009 model year (mid-late 2008). Thus five of the six years have passed. During this timeframe large manufacturers would also have to acquire the facilities and equipment to run the required production line testing programs beginning in the 2014 model year.

It is worth noting that in the 2007 model year many small volume manufacturers, almost exclusively from Asia, have certified using the FTP. However, information available to EPA suggests that most of these manufacturers avoided installing new equipment either by using time available on co-located or nearby chassis dynamometers used for motorcycle development or by contracting with one of a few contract labs in the Asia. Generally, such options are not readily available to the larger volume manufacturers who have not yet pursued chassis dynamometer facilities for certification of their ATVs and who must have production line testing capability as well.

EPA does not expect that this revision to the regulation will have an adverse cost impact to the manufacturers beyond that envisioned in the original rule. It will give manufacturers additional time to use current practices while moving toward mandatory use of the FTP for ATV emissions certification. We expect this extension will help to ensure compliance costs are minimized and that the emission reductions identified in the 2002 rule are achieved. Even the J1088 test cycle has reduced emissions significantly by eliminating ATVs powered by high emitting two-stroke engines as a new product offering. Adopting the FTP will help to ensure robust emission control in ATVs using 4-stroke engines by including consideration of transient operation and vehicle/engine operation over a wider variety of conditions than that seen in the J1088 cycle.

V. Statutory and Executive Order Reviews

A. Executive Order 12866: Regulatory Planning and Review

This action is not a “significant regulatory action” under the terms of Executive Order 12866 (58 FR 51735, October 4, 1993) and is therefore not subject to review under the Executive Order. This direct final rule merely gives an extension of time in which a temporary optional test duty cycle may be used. There are no costs associated with this rule beyond those envisioned in the original rule.

B. Paperwork Reduction Act

This direct final rule does not include any new collection requirements, as it acts to extend the availability of an existing temporary test procedure option. There are no new paperwork requirements associated with this rule.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

C. Regulatory Flexibility Act

EPA has determined that it is not necessary to prepare a regulatory flexibility analysis in connection with this direct final rule.

For purposes of assessing the impacts of this final rule on small entities, a small entity is defined as: (1) A small business that meet the definition for business based on SBA size standards at 13 CFR 121.201; (2) a small governmental jurisdiction that is a government of a city, county, town, school district or special district with a population of less than 50,000; and (3) a small organization that is any not-far-profit enterprise which is independently owned and operated and is not dominant in its field.

After considering the economic impacts of today's final rule on small entities, EPA has concluded that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the proposed rule on small entities.” 5 U.S.C. 603 and 604. Thus, an agency may conclude that a rule will not have a significant economic impact on a substantial number of small entities if the rule relieves regulatory burden, or otherwise has a positive economic effect on all of the small entities subject to the rule.

This direct final rule merely gives an extension of time in which a temporary optional test duty cycle may be used. We have therefore concluded that today's final rule will relieve regulatory burden for all small entities and will not have a significant economic impact on a substantial number of small entities.

D. Unfunded Mandates Reform Act

Title II of the Unfunded Mandates Reform Act of 1995 (UMRA), Public Law 104-4, establishes requirements for federal agencies to assess the effects of their regulatory actions on State, local, and tribal governments and the private sector. Under section 202 of the UMRA, EPA generally must prepare a written statement, including a cost-benefit analysis, for proposed and final rules with “federal mandates” that may result in expenditures to state, local, and tribal governments, in the aggregate, or to the private sector, of $100 million or more in any one year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation of why such an alternative was adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant federal intergovernmental mandates, and informing, educating, and advising small governments on compliance with the regulatory requirements.

This rule contains no federal mandates for state, local, or tribal governments as defined by the provisions of Title II of the UMRA. The rule imposes no enforceable duties on any of these governmental entities. Nothing in the rule would significantly or uniquely affect small governments. EPA has determined that this rule contains no federal mandates that may result in expenditures of more than $100 million to the private sector in any single year. This direct final rule merely gives an extension of time in which a temporary optional test duty cycle may be used. The requirements of UMRA therefore do not apply to this action.

E. Executive Order 13132: Federalism

Executive Order 13132, entitled “Federalism” (64 FR 43255, August 10, 1999), requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

Under Section 6 of Executive Order 13132, EPA may not issue a regulation that has federalism implications, that imposes substantial direct compliance costs, and that is not required by statute, unless the Federal government provides the funds necessary to pay the direct compliance costs incurred by State and local governments, or EPA consults with State and local officials early in the process of developing the regulation. EPA also may not issue a regulation that has federalism implications and that preempts State law, unless the Agency consults with State and local officials early in the process of developing the regulation.

Section 4 of the Executive Order contains additional requirements for rules that preempt State or local law, even if those rules do not have federalism implications (i.e., the rules will not have substantial direct effects on the States, on the relationship between the national government and the states, or on the distribution of power and responsibilities among the various levels of government). Those requirements include providing all affected State and local officials notice and an opportunity for appropriate participation in the development of the regulation. If the preemption is not based on express or implied statutory authority, EPA also must consult, to the extent practicable, with appropriate State and local officials regarding the conflict between State law and Federally protected interests within the agency's area of regulatory responsibility.

This rule does not have federalism implications. It will not have substantial direct effects on the States, on the relationship between the national government and the States, or on the distribution of power and responsibilities among the various levels of government, as specified in Executive Order 13132. This direct final rule merely gives an extension of time in which a temporary optional test duty cycle may be used.

F. Executive Order 13175: Consultation and Coordination With Indian Tribal Governments

Executive Order 13175, entitled “Consultation and Coordination with Indian Tribal Governments” (59 FR 22951, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This rule does not have tribal implications. It will not have substantial direct effects on tribal governments, on the relationship between the Federal government and Indian tribes, or on the distribution of power and responsibilities between the Federal government and Indian tribes, as specified in Executive Order 13175. This rule does not uniquely affect the communities of Indian Tribal Governments. Further, no circumstances specific to such communities exist that would cause an impact on these communities beyond those discussed in the other sections of this rule. This direct final merely gives an extension of time in which a temporary optional test duty cycle may be used. Thus, Executive Order 13175 does not apply to this rule.

G. Executive Order 13045: Protection of Children From Environmental Health and Safety Risks

Executive Order 13045, “Protection of Children from Environmental Health Risks and Safety Risks” (62 FR 19885, April 23, 1997) applies to any rule that (1) is determined to be “economically significant” as defined under Executive Order 12866, and (2) concerns an environmental health or safety risk that EPA has reason to believe may have a disproportionate effect on children. If the regulatory action meets both criteria, Section 5-501 of the Order directs the Agency to evaluate the environmental health or safety effects of the planned rule on children, and explain why the planned regulation is preferable to other potentially effective and reasonably feasible alternatives considered by the Agency.

This rule is not subject to the Executive Order because it is not economically significant as defined in Executive Order 12866, and because the Agency does not have reason to believe the environmental health or safety risks addressed by this action present a disproportionate risk to children. This direct final gives an extension of time in which a temporary optional test duty cycle may be used beyond that time period prescribed in the original rule.

H. Executive Order 13211: Actions That Significantly Affect Energy Supply, Distribution, or Use

This rule is not a “significant energy action” as defined in Executive Order 13211, “Actions Concerning Regulations That Significantly Affect Energy Supply, Distribution, or Use” (66 FR 28355, May 22, 2001) because it is not likely to have a significant adverse effect on the supply, distribution or use of energy. This direct final rule merely gives an extension of time in which a temporary optional test duty cycle may be used.

I. National Technology Transfer and Advancement Act

Section 12(d) of the National Technology Transfer and Advancement Act of 1995 (“NTTAA”), Public Law 104-113, section 12(d) (15 U.S.C. 272 note) directs EPA to use voluntary consensus standards in its regulatory activities unless doing so would be inconsistent with applicable law or otherwise impractical. Voluntary consensus standards are technical standards (such as materials specifications, test methods, sampling procedures, and business practices) that are developed or adopted by voluntary consensus standards bodies. NTTAA directs EPA to provide Congress, through OMB, explanations when the Agency decides not to use available and applicable voluntary consensus standards.

This direct final rule does not involve technical standards. This direct final rule merely gives an extension of time in which a temporary optional test duty cycle may be used. Thus, we have determined that the requirements of the NTTAA do not apply.

J. Executive Order 12898: Federal Actions To Address Environmental Justice in Minority Populations and Low-Income Populations

Executive Order 12898 (59 FR 7629 (February 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this rule will not have disproportionately high and adverse human health or environmental effects on minority or low-income populations because it does not affect the level of protection provided to human health or the environment. This direct final rule merely gives an extension of time in which a temporary optional test duty cycle may be used before it expires.

K. Congressional Review Act

The Congressional Review Act, 5 U.S.C. 801 et seq., as amended by the Small Business Regulatory Enforcement Fairness Act of 1996, generally provides that before a rule may take effect, the agency promulgating the rule must submit a rule report, which includes a copy of the rule, to Congress and the Comptroller General of the United States. We will submit a report containing this rule and other required information to the U.S. Senate, the U.S. House of Representatives, and the Comptroller General of the United States before publication of the rule in the Federal Register. A major rule cannot take effect until 60 days after it is published in the Federal Register. This action is not a “major rule” as defined by 5 U.S.C. 804(2). This direct final rule is effective on June 25, 2007.

L. Statutory Authority

The statutory authority for this action comes from section 213 of the Clean Air Act as amended (42 U.S.C. 7547). This action is a rulemaking subject to the provisions of Clean Air Act section 307(d). See 42 U.S.C. 7607(d):

List of Subjects in 40 CFR Part 1051

Environmental protection, Air pollution control, Exhaust emission testing, Recreational vehicle, All-terrain vehicle.

Dated: April 19, 2007.
Stephen L. Johnson,
Administrator.

For the reasons set out in the preamble, title 40, chapter I of the Code of Federal Regulations is amended as follows:

PART 1051—CONTROL OF EMISSIONS FROM RECREATIONAL ENGINES AND VEHICLES

1. The authority citation for part 1051 continues to read as follows:

Authority: 42 U.S.C. 7401-7671q.

2. Section 1051.145 is amended by revising paragraphs (b) introductory text and (e)(2) to read as follows:

§ 1051.145 What provisions apply only for a limited time?

* * * * *

(b) Optional emission standards for ATVs. To meet ATV standards for model years before 2014, you may apply the exhaust emission standards by model year in paragraph (b)(1) of this section while measuring emissions using the engine-based test procedures in 40 CFR part 1065 instead of the chassis-based test procedures in 40 CFR part 86. In model year 2014 you may apply this provision for exhaust emission engine families representing up to 50 percent of your U.S.-directed production. This provision is not available in the 2015 or later-model years. If you certify only one ATV exhaust emission engine family in the 2014 model year this provision is available for that family in the 2014 model year.

* * * * *

(e) * * *

* * * * *

(2) ATV. You may use the raw sampling procedures described in 40 CFR part 90 or 91 for ATVs certified using engine-based test procedures as specified in § 1051.615 before the 2015 model year. You may use these raw sampling procedures for any ATVs certified using engine-based test procedures as specified in paragraph (b) of this section.

* * * * *

[FR Doc. 07-2069 Filed 4-25-07; 8:45 am]

BILLING CODE 6560-50-M